DEPARTMENT OF DEFENSE

48 CFR Parts 204 and 253

[DFARS Case 2000-D001]

Defense Federal Acquisition Regulation Supplement; Reporting Requirements Update

AGENCY: Department of Defense (DoD).

ACTION: Final rule.

SUMMARY: The Director of Defense Procurement has issued a final rule amending the Defense Federal Acquisition Regulation Supplement (DFARS) to provide DoD contract action reporting requirements for fiscal year 2001. The rule makes changes to the individual contracting action report and the monthly summary of contracting actions.

EFFECTIVE DATE: October 1, 2000.

FOR FURTHER INFORMATION CONTACT: Ms. Michele Peterson, Defense Acquisition Regulations Council, OUSD(AT&L)DP(DAR), IMD 3D139, 3062 Defense Pentagon, Washington, DC 20301-3062. Telephone (703) 602-0311; telefax (703) 602-0350. Please cite DFARS Case 2000-D001.

SUPPLEMENTARY INFORMATION:

A. Background

This final rule contains fiscal year 2001 requirements for completion of DD Form 350, Individual Contracting Action Report, and DD Form 1057, Monthly Summary of Contracting Actions. DoD uses these forms to collect statistical data on its contracting actions. This rule contains reporting changes related to bundled contracts, North American Industry Classification System codes, performance-based service contracts, multiple award contracts, and veteran-owned small business concerns.

DD Forms 350 and 1057, and other forms prescribed by the DFARS, are not included in the Code of Federal Regulations. The forms are available electronically via the Internet at http://web1.whs.osd.mil/icdhome/forms.htm.

This rule was not subject to Office of Management and Budget review under Executive Order 12866, dated September 30, 1993.

B. Regulatory Flexibility Act

This final rule does not constitute a significant revision within the meaning of FAR 1.501 and Public Law 98-577 and publication for public comment is not required. However, DoD will consider comments from small entities concerning the affected DFARS subparts in accordance with 5 U.S.C. 610. Such comments should cite DFARS Case 2000-D001.

C. Paperwork Reduction Act

The Paperwork Reduction Act does not apply because the rule does not impose any information collection requirements that require the approval of the Office of Management and Budget under 44 U.S.C. 3501, et seq.

List of Subjects in 48 CFR Parts 204 and 253

Government procurement.

Michele P. Peterson,
Executive Editor, Defense Acquisition Regulations Council.

Therefore, 48 CFR Parts 204 and 253 are amended as follows:

1. The authority citation for 48 CFR Parts 204 and 253 continues to read as follows:

Authority: 41 U.S.C. 421 and 48 CFR Chapter 1.

PART 204—ADMINISTRATIVE MATTERS

2. Sections 204.600 through 204.602 are revised to read as follows:

204.600 Scope of subpart.

The Defense Contract Action Data System (DCADS) (see 204.670) is the DoD reporting system that supports the uniform reporting requirements for—

(1) DD Form 350, Individual Contracting Action Report; and

(2) DD Form 1057, Monthly Summary of Contracting Actions.

204.601 Record requirements.

(a) The DCADS meets FAR Subpart 4.6 record retention requirements.

(d) The Directorate for Information, Operation, and Reports (DIOR), of the Washington Headquarters Services (WHS) transmits required DoD information to the Federal Procurement Data System.

204.602 Federal Procurement Data System.

(c) DoD uses the DD Form 350, Individual Contracting Action Report, instead of the SF 279, Federal Procurement Data System (FPDS) Individual Contract Action Report. DoD uses the DD Form 1057, Monthly Summary of Contracting Actions, instead of the SF 281, FPDS Summary Contract Action Report ($25,000 or Less).

3. Section 204.670-1 is amended by revising paragraphs (b) and (c) to read as follows:

204.670-1 Definitions.

(b) Contracting action means any action obligating or deobligating funds in connection with the purchasing, renting, or leasing of supplies, services, or construction. The term does not include grants or cooperative agreements. The term includes, but is not limited to, the following:

(1) Definitive contracts, including notices of award.

(2) Letter contracts.

(3) Purchase orders.

(4) Purchases made using the Governmentwide commercial purchase card.

(5) Actions for purchase of land or rental or lease of real property.

(6) Orders under existing contracts or agreements, e.g.—

(i) Orders against basic ordering agreements, including service orders issued on DD Form 1164, Service Order for Personal Property, by installation transportation offices;

(ii) Calls against blanket purchase agreements;

(iii) Job orders;

(iv) Task orders;

(v) Delivery orders;

(vi) Communication services authorizations; and

(vii) Notices of termination or cancellation.

(7) Contract modifications, e.g.—

(i) Change orders;

(ii) Supplemental agreements;

(iii) Funding actions; and

(iv) Option exercises.

(c) Departmental data collection points means—

(1) For the Army (including Corps of Engineers Civil Works): Department of the Army, ATTN: SAAL-PA, 5109 Leesburg Pike, Suite 302, Falls Church, VA 22041-3201.

(2) For the Navy: Fleet Industrial Supply Center, Norfolk Detachment Washington, DC, ATTN: PMRS, Code 02W4.A, 1014 N Street SE, Suite 400, Washington Navy Yard, Washington, DC 20374-5014.

(3) For the Air Force: SAF/AQCI, 1060 Air Force Pentagon, Washington, DC 20330-1060.

(4) For the Defense Logistics Agency: Headquarters, Defense Logistics Agency, ATTN: Procurement Management Directorate (Acquisition Programs Team), 8725 John J. Kingman Road, Suite 3147, Fort Belvoir, VA 22060-6221.

(5) For other DoD contracting activities: Department of the Army, ATTN: SAAL-PA, 5109 Leesburg Pike, Suite 302, Falls Church, VA 22041-3201.

* * * * *

4. Section 204.670-2 is amended by revising paragraphs (a) and (b)(2)(ii) to read as follows:

204.670-2 Reportable contracting actions.

(a) Except as provided in paragraph (c) of this subsection, complete a DD Form 350 for the following types of contracting actions in accordance with the instructions in 253.204-70:

(1) Actions that obligate or deobligate more than $25,000, except actions summarized on DD Form 1057 in accordance with paragraph (b)(2) of this subsection.

(2) Actions that obligate or deobligate $25,000 or less and are—

(i) Under a very small business set-aside (see FAR Subpart 19.9);

(ii) Requirements that DoD is processing for a non-DoD Federal agency; or

(iii) In a designated industry group under the Small Business Competitiveness Demonstration Program (see FAR Subpart 19.10), except for—

(A) Foreign military sales;

(B) Orders or modifications under Federal schedules;

(C) Actions with government agencies;

(D) Actions with non-U.S. business firms; and

(E) Actions where the place of performance is other than the United States and its outlying areas.

(b) * * *

(2) * * *

(ii) A humanitarian or peacekeeping operation as defined in 10 U.S.C. 2302(8).

* * * * *

5. Sections 204.670-3 through 204.670-7 are revised to read as follows:

204.670-3 Contracting office responsibilities.

(a) For DD Form 350, contracting offices—

(1) Prepare the appropriate type of DD Form 350 (see 204.670-6) in accordance with the instructions in 253.204-70, for all reportable contracting actions (see 204.670-2(a)), including actions accomplished by contract administration offices on behalf of the contracting office.

(2) Complete the DD Form 350 when funds are obligated or deobligated. For actions accomplished by a contract administration office, complete the DD Form 350 upon receipt of the contractual instrument annotated “DD FORM 350 REPORTING COPY.”

(3) Submit all DD Forms 350 for the calendar month to the departmental data collection point (see 204.670-1(c)) in accordance with departmental or agency procedures.

(4) Prepare and submit a corrected or canceling DD Form 350 as required in accordance with departmental data collection point instructions.

(5) Establish a control system for assigning report numbers to DD Forms 350 (Line A2 of the DD Form 350). The number must have six positions and may be any combination of alpha or numeric characters. If more than one activity within a contracting office uses the same reporting office code, the contracting office must assign separate blocks of numbers to each activity to prevent duplication of report numbers.

(6) Maintain the DD Form 350 in the contract file in any medium, in accordance with departmental or agency procedures.

(b) For DD Form 1057, contracting offices—

(1) Prepare a DD Form 1057, in accordance with the instructions in 253.204-71, covering reportable contracting actions (see 204.670-2(b)), including actions accomplished by contract administration offices on behalf of the contracting office. An installation, base, or other activity may have more than one contracting office code to separate the various types of acquisitions, such as base and central contracting, or RDT&E and non-RDT&E acquisition. Each contracting office with a separate code must submit its own DD Form 1057.

(2) Complete the DD Form 1057 within three working days after the cutoff of the reporting month. Contracting offices may not cut off the reporting month before the 25th calendar day. The cutoff date for September is September 30. Submit the DD Form 1057 to the departmental data collection point in accordance with departmental or agency procedures.

(3) Unless otherwise instructed by the departmental data collection point, do not submit revised DD Form 1057 reports. Include any required corrections or adjustments in following month's report.

204.670-4 Contract administration office responsibilities.

Contract administration offices executing actions subject to DD Form 350 or DD Form 1057 reporting must submit an annotated copy of the contractual instrument to the contracting office so that the contracting office can submit the required report.

(a) For DD Form 350, annotate in the heading of the contractual instrument in large block letters “DD FORM 350 REPORTING COPY.” Send the annotated copy to the contracting office within one working day after the action date.

(b) For DD Form 1057, annotate in the heading of the contractual instrument in large block letters “DD FORM 1057 REPORTING COPY.” Send the annotated copy with the normal distribution.

204.670-5 Departmental data collection point responsibilities.

Departmental data collection points—

(a) Collect DD Forms 350 and 1057 data provided by their contracting activities;

(b) Electronically record the data in accordance with the instructions for recording and editing developed by WHS-DIOR with the majority agreement of the departments and agencies and prescribed by the Director of Defense Procurement; and

(c) Submit monthly reports (noncumulative) to Washington Headquarters Services, ATTN: DIOR, within 18 days after the close of the reporting period, except the due date for September may be extended for no more than ten days. Report Control Symbol DD-AT&L(M)1014 applies to reports for DD Form 350 actions, and Report Control Symbol DD-AT&L(M)1015 applies to reports for DD Form 1057 actions.

204.670-6 Types of DD Form 350 reports.

There are three types of reports—single, consolidated, and multiple.

(a) A single report is one DD Form 350 report per contracting action.

(b) A consolidated report combines several contracting actions.

(1) Prepare consolidated reports for—

(i) Military Sealift Command awards of indefinite-delivery contracts for ocean transportation. The Command reports at the beginning of each fiscal year the estimated value of the orders for that fiscal year on one DD Form 350.

(ii) Defense Energy Support Center or Defense Supply Center, Richmond, indefinite-delivery contracts for petroleum or petroleum supplies. The Centers, at the time of award, report the estimated value of the orders to be placed against the contract on one DD Form 350.

(iii) Orders placed by the Defense Commissary Agency (DeCA) for resale items over $25,000. DeCA consolidates the orders monthly and reports the cumulative dollar amounts and actions on one DD Form 350 in accordance with agency procedures.

(iv) Vouchers processed by the U.S. Army Contracting Command, Europe (USACCE), for the purchase of utilities from municipalities (e.g., gas, electricity, water, sewage, steam, snow removal, and garbage collection). USACCE consolidates these transactions monthly and reports the cumulative dollar amount on one DD Form 350 in accordance with departmental procedures.

(2) Consolidated reports may be prepared in accordance with departmental or agency procedures for orders under communications service agreements for local dial tone services.

(c) A multiple report is more than one DD Form 350 per contracting action. Prepare multiple reports if—

(1) The contracting action includes foreign military sales (FMS) requirements in addition to non-FMS requirements (Line B9 on the DD Form 350). Submit one DD Form 350 report for the FMS requirements and another DD Form 350 report for the non-FMS requirements, except if either of the portions is $25,000 or less, report the $25,000 or less portion on a DD Form 1057 instead of a DD Form 350.

(2) The contracting action includes more than one type of contract (Line C5 on the DD Form 350) and the type with the least dollar value exceeds $500,000. Prepare a separate DD Form 350 for each contract type.

(3) The contracting action includes non-DoD Federal agency requirements and DoD requirements. Submit one DD Form 350 for the non-DoD requirements and another DD Form 350 for the DoD requirements. If the DoD portion is $25,000 or less, report the DoD portion on a DD Form 1057 instead of a DD Form 350.

204.670-7 Security classification.

Submit DD Forms 350 as unclassified documents. Classified contracts are not exempt from reporting solely because the contract is classified. Contact the appropriate departmental data collection points for special instructions if it is necessary for security reasons to modify coding of any information on the DD Form 350. If contact cannot be made for security reasons, obtain instructions from the Director of Security, Office of the Assistant Secretary of Defense (Command, Control, Communications, and Intelligence), (703) 614-0578, or DSN 224-0578.

204.670-8 [Removed]

6. Section 204.670-8 is removed.

PART 253—FORMS

7. Sections 253.204-70 and 253.204-71 are revised to read as follows:

253.204-70 DD Form 350, Individual Contracting Action Report.

Policy on use of a DD Form 350 is in 204.670-2. This subsection contains instructions for completion of the DD Form 350.

(a) Part A of the DD Form 350. Part A identifies the report and the reporting activity. Complete all four lines.

(1) LINE A1, TYPE OF REPORT. Enter one of the following codes:

(i) Code 0—Original. Enter code 0 unless code 1 or code 2 applies.

(ii) Code 1—Canceling. A canceling action cancels an existing DD Form 350 in accordance with departmental data collection point instructions.

(iii) Code 2—Correcting. A correcting action corrects an existing DD Form 350 action in accordance with departmental data collection point instructions.

(2) LINE A2, REPORT NUMBER. Enter the six-position local control number (see 204.670-3(a)(5)). If Line A1 is coded 1 or 2, use the prior report number rather than a new one.

(3) LINE A3, CONTRACTING OFFICE

(i) LINE A3A, REPORTING AGENCY FIPS 95 CODE. Enter the four-position code from Federal Information Processing Standards Publication (FIPS PUB) 95, Codes for the Identification of Federal and Federally Assisted Organizations, that identifies the reporting agency.

(ii) LINE A3B, CONTRACTING OFFICE CODE. Enter the code assigned by the departmental data collection point in 204.670-1(c).

(4) LINE A4, NAME OF CONTRACTING OFFICE. Enter sufficient detail to establish the identity of the contracting office.

(b) Part B of the DD Form 350. Part B identifies the transaction.

(1) LINE B1, CONTRACT IDENTIFICATION INFORMATION. Do not leave any parts of Line B1 blank.

(i) LINE B1A, CONTRACT NUMBER.

(A) Enter—

(1) The DoD contract number; or

(2) For orders under contracts awarded by other Federal agencies, the contract number of that Federal agency as it appears in the contractual instrument.

(B) Do not leave spaces between characters, and do not enter dashes, slants, or any other punctuation marks.

(C) The DoD contract number is the basic (13 alphanumeric character) procurement instrument identification number (PIIN) that was assigned in accordance with 204.7003 or constructed under an exception permitted by 204.7000. Do not enter any supplementary procurement instrument identification numbers as part of the contract number (these go on Line B2).

(ii) LINE B1B, ORIGIN OF CONTRACT. Enter the code that indicates the agency that assigned the contract number.

(A) Code A—DoD.

(B) Code B—NASA.

(C) Code C—Other Non-DoD Agency.

(iii) LINE B1C, BUNDLED CONTRACT. Enter one of the following codes:

(A) Code Y—Yes. Enter code Y when the contract meets the definition of “bundled contract” at FAR 2.101 and the contract value exceeds $5 million.

(B) Code N—No. Enter code N when code Y does not apply.

(iv) LINE B1D, PERFORMANCE-BASED SERVICE CONTRACT. Enter one of the following codes:

(A) Code Y—Yes. Enter code Y when—

(1) The contract value exceeds $100,000; and

(2) At least 80 percent of the contract value is for work that is performance based (see FAR subpart 37.6).

(B) Code N—No. Enter code N when code Y does not apply.

(v) LINE B1E—Reserved.

(2) LINE B2, MODIFICATION, ORDER, OR OTHER ID NUMBER. Enter the supplementary procurement instrument identification number (if there is one) that was assigned in accordance with 204.7004 or as permitted by 204.7000. It can be up to 19 characters. Usually calls and orders have a four-position number (see 204.7004(d)); modifications to contracts and agreements have a six-position modification number (see 204.7004(c)); and modifications to calls and orders have a two-position modification number (see 204.7004(e)). When reporting modifications to calls and orders, enter both the call or order number and the modification number.

(3) LINE B3, ACTION DATE.

(i) Enter the year, month, and day of the effective date for fiscal obligation purposes.

(ii) Enter four digits for the year, two digits for the month, and two digits for the day. Use 01 through 12 for January through December. For example, enter January 2, 2003, as 20030102.

(4) LINE B4, COMPLETION DATE.

(i) Enter the year, month, and day of the last contract delivery date or the end of the performance period. If the contract is incrementally funded, report the completion date for the entire contract. Report the completion date associated with an option quantity when the option is exercised.

(ii) Enter four digits for the year, two digits for the month, and two digits for the day. Use 01 through 12 for January through December. For example, enter January 2, 2003, as 20030102.

(5) LINE B5, CONTRACTOR IDENTIFICATION INFORMATION.

(i) Use data that relates to the contractor whose name and address appear in the contract document (Block 7 of the SF 26, Award/Contract; Block 8 of the SF 30, Amendment of Solicitation/Modification of Contract; Block 15A of the SF 33, Solicitation, Offer and Award; or Block 9 of the DD Form 1155, Order for Supplies or Services), except—

(A) For contracts placed with the Small Business Administration under Section 8(a) of the Small Business Act, use data that relates to the company that will be performing the work;

(B) For Federal schedule orders, use data that applies to the contractor whose name appears on the schedule (not the data for the agent to whom orders may be sent); and

(C) For contracts with the Canadian Commercial Corporation (CCC), use data for the appropriate CCC office.

(ii) Some of the parts of Line B5 may not apply to the action being reported. Follow the instructions for each part.

(A) LINE B5A, CONTRACTOR IDENTIFICATION NUMBER (DUNS).

(1) Enter the contractor's 9-position Data Universal Numbering System (DUNS) number (see FAR 4.602(d) and 4.603 and DFARS subpart 204.73).

(2) For all actions with Federal Prison Industries (UNICOR), use DUNS number 62-662-7459.

(3) For U.S. Army Contracting Command, Europe, consolidated reporting of vouchers for utilities from municipalities, use DUNS number 15-390-6193 (see 204.670-6(b)(1)).

(B) LINE B5B, GOVERNMENT AGENCY. Enter one of the following codes:

(1) Code Y—Yes. Enter code Y when the contractor is a Federal, State, or local government agency of the United States and outlying areas (see 204.670-1(d)). Do not use code Y when the government agency is an educational institution.

(2) Code N—No. Enter code N when code Y does not apply.

(C) LINE B5C, CAGE CODE. Enter the 5-position Commercial and Government Entity (CAGE) code that identifies the contractor plant or establishment. If the CAGE code is not already available in the contracting office and the apparent awardee does not respond to the provision at 252.204-7001, Commercial and Government Entity (CAGE) Code Reporting, use the procedures at 204.7202-1 to obtain one.

(D) LINE B5D, CONTRACTOR NAME AND DIVISION NAME. Enter the contractor's name as stated in the offer and resultant contract. Include its division name.

(E) LINE B5E, CONTRACTOR ADDRESS. Enter the contractor's address as stated in the offer and resultant contract. Include street address or P.O. Box, city or town, state or country, and ZIP code, if applicable. Do not enter foreign postal codes.

(F) LINE B5F, TAXPAYER IDENTIFICATION NUMBER. Enter the contractor's taxpayer identification number (TIN) (see FAR Subpart 4.9). Leave Line B5F blank if the contractor is—

(1) Registered in the Central Contractor Registration database (see Subpart 204.73);

(2) A nonresident alien, foreign corporation, or foreign partnership that does not have income effectively connected with the trade or business in the United States; and does not have an office or place of business or a fiscal paying agent in the United States;

(3) An agency or instrumentality of a foreign government; or

(4) An agency or instrumentality of the Federal Government.

(G) LINE B5G, PARENT TAXPAYER IDENTIFICATION NUMBER. Enter the contractor's parent company (common parent) TIN (see FAR subpart 4.9 and 52.204-3). If the contractor does not have a parent company or the parent company meets the exemption for Line B5F, leave Line B5G blank.

(H) LINE B5H, PARENT NAME. If a parent company TIN is entered on Line B5G, enter the name of the parent company (common parent) on Line B5H. Leave Line B5H blank if there is no parent company or the parent company is exempted from the requirement to have a TIN.

(6) LINE B6, PRINCIPAL PLACE OF PERFORMANCE.

(i) The place, or places, where the contract will be performed may be specified by the Government or listed by the contractor in response to the solicitation provision at FAR 52.214-14, Place of Performance'Sealed Bidding, or FAR 52.215-6, Place of Performance. Use data for the contractor's principal place of performance, which is generally the—

(A) Final assembly point for items manufactured under supply contracts;

(B) Location from where shipments from stock are made under supply contracts;

(C) Actual construction site for construction contracts;

(D) Planned construction site for architect-engineer contracts;

(E) Place of mining for mined supplies; or

(F) Place (including military installations) where a service is performed for service contracts.

(ii) When there is more than one location for any of paragraphs (b)(6)(i)(A) through (F) of this subsection (e.g., more than one construction site), use the location involving the largest dollar amount of the acquisition. Do not show more than one location on Line B6.

(iii) If places of performance are too varied or not known, enter the contractor's home office location. However, if the contractor is a domestic concern and the entire contract will be performed outside the United States, enter the most frequent place of performance.

(iv) Follow the instructions for each part of Line B6 that applies to the action being reported.

(A) LINE B6A, CITY OR PLACE CODE.

(1) For places in the United States and outlying areas, enter the numeric place code from FIPS PUB 55, Guideline: Codes for Named Populated Places, Primary Country Divisions, and Other Locational Entities of the United States and Outlying Areas. Leave Line B6A blank for places outside the United States and outlying areas.

(2) If the city or locality is not listed, look in FIPS PUB 55 for the county code of the principal place of performance. Enter that code on Line B6A. Use 50000 for Washington, DC, with a State code of 11.

(3) Paragraph 5.2, Entry Selection With the Aid of the Class Code, of FIPS PUB 55 will help in selecting the correct code. Sometimes, a class code should be used in addition to a place code to accurately identify the place of performance. Do not use place codes when the first position of the class code is X or Z.

(B) LINE B6B, STATE OR COUNTRY CODE.

(1) For places in the United States and outlying areas, enter the numeric State code from FIPS PUB 55 or FIPS PUB 5, Codes for the Identification of the States, the District of Columbia and the Outlying Areas of the United States and Associated Areas.

(2) For places outside the United States and outlying areas, enter the alpha country code from FIPS PUB 10, Countries, Dependencies, Areas of Special Sovereignty, and Their Principal Administrative Divisions.

(C) LINE B6C, CITY OR PLACE AND STATE OR COUNTRY NAME. Enter the name of the principal place of performance. Do not leave Line B6C blank.

(7) LINE B7, TYPE OBLIGATION. Enter one of the following codes:

(i) Code 1—Obligation. Enter code 1 if the contracting action obligates funds.

(ii) Code 2—Deobligation. Enter code 2 if the contracting action deobligates funds.

(8) LINE B8, TOTAL DOLLARS. Enter the net amount of funds (whole dollars only) obligated or deobligated by the contracting action. Do not leave Line B8 blank.

(9) LINE B9, FOREIGN MILITARY SALE. Enter one of the following codes. If only part of the contracting action is a foreign military sale, separately report the parts (see 204.670-6(c)).

(i) Code Y—Yes. Enter code Y when the contracting action is under a foreign military sales arrangement, or under any other arrangement when a foreign country or international organization is bearing the cost of the acquisition.

(ii) Code N—No. Enter code N when code Y does not apply.

(10) LINE B10, MULTIYEAR CONTRACT. Enter one of the following codes:

(i) Code Y—Yes. Enter code Y when the contracting action is a multiyear contract as defined at FAR 17.103. Do not report contracts containing options as multiyear unless the definition at FAR 17.103 applies to the contract.

(ii) Code N—No. Enter code N when code Y does not apply.

(11) LINE B11, TOTAL MULTIYEAR VALUE. Enter the total estimated multiyear contract value (in whole dollars) only at the time of initial obligation of multiyear funds for a new letter contract or a new definitive contract (Line B13A is coded 1 or 3 and Line B13D is blank). For all other codes on Line B13A, enter a zero on Line B11.

(12) LINE B12, PRINCIPAL PRODUCT OR SERVICE. Line B12 has five parts. Do not leave any parts of Line B12 blank.

(i) LINE B12A, FEDERAL SUPPLY CLASS OR SERVICE CODE. Enter the 4-character Federal supply class (FSC) or service code that describes the contract effort. To find the code, look in Section I of the Department of Defense (DoD) Procurement Coding Manual (MN02). There are three categories of codes to choose from. In some cases, use a 4-character code from a list of 4-character codes; in other cases, construct a code using the instructions in the Manual. If more than one category or code applies to the contracting action, enter the one that best identifies the product or service representing the largest dollar value.

(A) Supplies. If the contracting action is for the purchase (not lease or rental) of supplies, enter an FSC code on Line B12A. FSC codes are all numeric. Look in Section I, Part C, of the DoD Procurement Coding Manual (MN02). The Department of Defense Federal Supply Classification Cataloging Handbook (H2) may also help with the correct 4-digit code.

(B) Services. If the contracting action is for services (except research, development, test, and evaluation), construction, equipment lease or rental, or facilities lease or rental, enter a service code on Line B12A. Service codes are listed in Section I, Part B, of the DoD Procurement Coding Manual (MN02).

(C) Research, Development, Test, and Evaluation (RDT&E). If the contracting action is for RDT&E (as defined in FAR 35.001 and 235.001), enter an RDT&E code on Line B12A. Look in Section I, Part A, of the DoD Procurement Coding Manual (MN02). All RDT&E codes should begin with the letter “A.” Do not use an RDT&E code for—

(1) Purchase, lease, or rental of equipment, supplies, or services separately purchased in support of RDT&E work, even if RDT&E funds are cited. Instead, use an FSC or Service code under the instructions in paragraph (b)(12)(i)(A) or (B) of this subsection; or

(2) Orders under Federal schedule contracts. Instead, use an FSC or Service code under the instructions in paragraph (b)(12)(i)(A) or (B) of this subsection.

(ii) LINE B12B, DOD CLAIMANT PROGRAM CODE. Enter a code that identifies the commodity described on Line B12E. These codes are in Section III of the DoD Procurement Coding Manual (MN02). If more than one code applies to the contracting action, enter the one that best identifies the product or service representing the largest dollar value. If the description on Line B12E is for'

(A) Research and development (R&D), enter the code that best represents the objective of the R&D. For example, if the objective of the R&D is a guided missile, enter code A20. If the R&D cannot be identified to any particular objective, enter code S10;

(B) Ship repair, inspect and repair as necessary (IRAN), modification of aircraft, overhaul of engines, or similar maintenance, repair, or modification services, enter the code that best identifies the program;

(C) Equipment rental (including rental of automatic data processing equipment), enter code S10;

(D) Utility services, enter code S10;

(E) Services that cannot be identified to any listed program, enter code S10; or

(F) Supplies or equipment that cannot be identified to any listed program, enter code C9E.

(iii) LINE B12C, PROGRAM, SYSTEM, OR EQUIPMENT CODE.

(A) Enter a code that describes the program, weapons system, or equipment. These codes are in Section II of the DoD Procurement Coding Manual (MN02). If there is no code that applies to the contracting action, enter three zeros. If more than one code applies to the action, enter the one that best identifies the product or service representing the largest dollar value.

(B) If the contracting action is funded by the Ballistic Missile Defense Organization, enter code CAA.

(C) If the contracting action supports environmental cleanup programs, enter one of the codes listed in Section II of the DoD Procurement Coding Manual (MN02) under the heading “Description and Use of Program Codes—Environ- mental Cleanup Programs.”

(D) Defense Logistics Agency activities must use the code assigned by the sponsoring military department.

(iv) LINE B12D, NAICS CODE. Enter the North American Industry Classification System (NAICS) code for the acquisition. Use the NAICS code in effect at the time of award. These codes are in the 1997 U.S. NAICS Manual (http://www.census.gov/pub/epcd/www/naics.html). If more than one code applies to the contracting action, enter the code that best identifies the product or service representing the largest dollar value.

(v) LINE B12E, NAME OR DESCRIPTION. Enter the name or a brief description of the commodity or service. If the description is classified, enter only the word “Classified.” Do not use “Classified” when a code name (e.g., Minuteman, Polaris, Trident, Pershing) or an identifying program number (e.g., WS-107A) can be used.

(13) LINE B13, KIND OF CONTRACTING ACTION. Some of the parts of Line B13 may not apply to the action being reported. Follow instructions for each part. When the contracting action is a modification, complete Lines B13A and B13D.

(i) LINE B13A, CONTRACT OR ORDER. Enter one of the following codes:

(A) Code 1—Letter Contract. Enter code 1 when the contracting action is a letter contract or a modification to a letter contract that has not been definitized.

(B) Code 3—Definitive Contract.

(1) Enter code 3 when the contracting action is the award or modification of a definitive contract or a modification that definitizes a contract. Code 3 includes the following:

(i) Definitive contract awards under the Small Business Administration 8(a) program.

(ii) Notices of award.

(iii) Lease agreements.

(iv) Indefinite-delivery-definite-quantity contracts (FAR 52.216-20).

(v) Indefinite-delivery-indefinite-quantity contracts (FAR 52.216-22) when funds are obligated by the contract itself.

(2) Code 3 excludes orders from the Procurement List (see codes 6 and 8).

(C) Code 4—Order under an Agreement. Enter code 4 when the contracting action is an order or definitization of an order under an agreement other than a blanket purchase agreement. Examples include an order exceeding $25,000 under a basic ordering agreement or a master ship repair agreement and a job order when the contract is created by issuing the order. A call under a blanket purchase agreement associated with a Federal schedule (see FAR 8.404(b)(4)) is coded 6. A call under other blanket purchase agreements, pursuant to FAR 13.303, is coded 9. When the contracting action is a modification to an order described in code 4 instructions, enter code 4 on Line B13A.

(D) Code 5—Order under Indefinite-Delivery Contract. Enter code 5 when the contracting action is an order, including a task or delivery order, under an indefinite-delivery contract awarded by a Federal agency. For example, enter code 5 for an order under a GSA indefinite-delivery contract, such as a GSA area-wide contract for utility services, that is not a Federal schedule. When the contracting action is a modification to an order described in code 5 instructions, enter code 5 on Line B13A.

(E) Code 6—Order or Call under Federal Schedule. Enter code 6 if the contracting action is an order under a GSA or VA Federal Supply Schedule, or a call against a blanket purchase agreement established under a GSA or VA Federal Supply Schedule (see FAR 8.404). Code 6 includes orders under Federal Supply Schedules for items on the Procurement List. When the contracting action is a modification to an order or call described in code 6 instructions, enter code 6 on Line B13A.

(F) Code 8—Order from Procurement List. Enter code 8 if the contracting action is an action placed with Federal Prison Industries (UNICOR) or a JWOD Participating Nonprofit Agency in accordance with FAR subpart 8.6 or 8.7. Use code 6 for orders from the Procurement List under Federal schedules. When the contracting action is a modification to an action described in code 8 instructions, enter code 8 on Line B13A.

(G) Code 9—Purchase Order or Call. Enter code 9 if the contracting action, including an action in a designated industry group under the Small Business Competitiveness Demonstration Program (see FAR subpart 19.10), is an award pursuant to FAR part 13, except when the contracting action is a blanket purchase agreement call pursuant to FAR 8.404(b)(4) (see code 6). When the contracting action is a modification to a purchase order or call described in code 9 instructions, enter code 9 on Line B13A.

(ii) LINE B13B, TYPE OF INDEFINITE-DELIVERY CONTRACT. If Line B13A is coded 3 and the ninth position of B1A is coded D, complete Line B13B. If Line B13A is coded 5, complete Line B13B. Otherwise, leave Line B13B blank.

(A) Code A—Requirements Contract (FAR 52.216-21).

(B) Code B—Indefinite-Quantity Contract (FAR 52.216-22).

(C) Code C—Definite-Quantity Contract (FAR 52.216-20).

(iii) LINE B13C, MULTIPLE OR SINGLE AWARD INDEFINITE-DELIVERY CONTRACT. If Line B13B is coded A, B, or C, complete Line B13C. Otherwise, leave Line B13C blank.

(A) Code M—Multiple Award. Enter code M if the contracting action is a task or delivery order under a multiple award indefinite-delivery contract.

(B) Code S—Single Award. Enter code S if the contracting action is a task or delivery order under a single award indefinite-delivery contract.

(iv) LINE B13D, MODIFICATION. If the contracting action is a modification, enter one of the following codes. Otherwise, leave Line B13D blank.

(A) Code A—Additional Work (new agreement). Enter code A when the contracting action is a bilateral supplemental agreement that obligates funds for additional work requiring a justification and approval (J&A).

(B) Code B—Additional Work (other). Enter code B when the contracting action is a modification of an existing contract (including a letter contract) that is not covered by code A or by codes C through H (see code H for exercise of an option). Code B includes actions that—

(1) Initiate an incremental yearly buy under a multiyear contract;

(2) Amend a letter or other contract to add work that does not require a J&A; or

(3) Order under a priced exhibit or production list.

(C) Code C—Funding Action. Enter code C when the contracting action is a modification (to a letter or other contract) for the sole purpose of obligating or deobligating funds. This includes—

(1) Incremental funding (other than incremental yearly buys under multiyear contracts, which are coded B);

(2) Changes to the estimated cost on cost-reimbursement contracts;

(3) Repricing actions covering incentive price revisions;

(4) Economic price adjustments; and

(5) Initial citation and obligation of funds for a contract awarded in one fiscal year but not effective until a subsequent fiscal year.

(D) Code D—Change Order. Enter code D if the contracting action is a change order issued under the “Changes,” “Differing Site Conditions,” or similar clauses in existing contracts.

(E) Code E—Termination for Default. Enter code E if the contracting action is a modification that terminates all or part of the contract for default.

(F) Code F—Termination for Convenience. Enter code F if the contracting action is a modification that terminates all or part of the contract for convenience.

(G) Code G—Cancellation. Enter code G if the contracting action is a modification that cancels the contract. Do not use code G to cancel a prior DD Form 350 (see Line A1).

(H) Code H—Exercise of an Option. Enter code H if the contracting action is an exercise of an option.

(I) Code J—Definitization of a Letter Contract. Enter code J if the contracting action is the definitization of a letter contract, and enter code 3 on Line B13A.

(14) LINE B14, CICA APPLICABILITY. Enter one of the following codes:

(i) Code A—Pre-CICA. Enter code A if the action resulted from a solicitation issued before April 1, 1985. Modifications within the original scope of work of such awards and orders under pre-CICA indefinite-delivery type contracts also are coded A.

(ii) Code B—CICA Applicable. Enter code B if—

(A) The action resulted from a solicitation issued on or after April 1, 1985, or is a modification coded A on Line B13D issued on or after April 1, 1985; and

(B) Neither code C nor code D applies.

(iii) Code C—Simplified Acquisition Procedures Other than FAR Subpart 13.5. Enter code C if the action resulted from use of the procedures in FAR part 13, other than those in subpart 13.5.

(iv) Code D—Simplified Acquisition Procedures Pursuant to FAR Subpart 13.5. Enter code D if the action resulted from use of the procedures in FAR subpart 13.5.

(c) Part C of the DD Form 350.

(1) Part C gathers data concerning contracting procedures, use of competition, financing, and statutory requirements other than socioeconomic (which are in Part D).

(2) Do not complete Part C if the contracting action is an action with a government agency, i.e., Line B5B (Government Agency) is coded Y (Yes). If Line B13A is coded 6, do not complete any lines in Part C except Line C3, and Lines C13A and C13B when they apply.

(3) In completing Part C, use codes that describe either the current contracting action or the original contract, depending on the codes reported on Lines B13A and B13D.

(i)(A) If Line B13A is coded 1, 3, 4, 6, or 9 and Line B13D is coded A or is blank, code the lines in Part C to describe the current action.

(B) If Line B13A is coded 5 and the current action is an order under a multiple award contract (Line B13C is coded M), code Lines C6 and C7 to describe the order and code the rest of Part C to describe the original contract.

(C) Otherwise, code the lines in Part C to describe the original contract.

(ii) If there are no codes for the original contract because a DD Form 350 was not required at the time, the original action is no longer available, the definition of the original code has changed, or a data element has been added to the system after the original contract report, use codes that best describe the original contracting action.

(4) Complete Part C as follows:

(i) LINE C1, SYNOPSIS. Enter one of the following codes:

(A) Code A—Synopsis Only. Enter code A if only a synopsis of the proposed action was prepared and transmitted to the Commerce Business Daily in accordance with FAR subpart 5.2.

(B) Code B—Combined Synopsis/Solicitation. Enter code B if a combined synopsis/solicitation of the proposed action was prepared and transmitted to the Commerce Business Daily in accordance with FAR subpart 5.2 and 12.603.

(C) Code N—Not Synopsized. Enter code N if a synopsis was not prepared.

(ii) LINE C2, REASON NOT SYNOPSIZED. Enter one of the following codes if Line C1 is coded N. Otherwise, leave Line C2 blank.

(A) Code A—Urgency. Enter code A if the action was not synopsized due to urgency (see FAR 6.302-2).

(B) Code B—Single, Governmentwide Point of Entry. Enter code B if the action was not synopsized because the acquisition was made through FACNET or another means that provided access to the notice of proposed action through the single, Governmentwide point of entry (see FAR 5.202(a)(13)).

(C) Code Z—Other Reason. Enter code Z if the action was not synopsized due to some other reason.

(iii) LINE C3, EXTENT COMPETED. Enter one of the following codes:

(A) Code A—Competed Action. Enter code A when—

(1) The contracting action is an action under a Federal schedule contract (Line B13A is coded 6);

(2) Competitive procedures were used to fulfill the requirement for full and open competition (see FAR Subpart 6.1);

(3) Full and open competition procedures after exclusion of sources were used in order to establish or maintain alternative sources, to set aside an acquisition for small business or HUBZone small business, or to compete Section 8(a) awards (see FAR subpart 6.2);

(4) Statutory authorities for other than full and open competition were used (see FAR subpart 6.3) and more than one offer was received (if only one offer was received, use code D);

(5) The contracting action resulted from a contract awarded prior to the Competition in Contracting Act that used two-step sealed bidding or other sealed bidding, or that was negotiated competitively; or

(6) Simplified acquisition procedures were used and competition was obtained.

(B) Code B—Not Available for Competition. Enter code B for—

(1) Awards for utilities or utility systems, excluding long distance telecommunications services, when only one supplier can furnish the service (see FAR 6.302-1(b)(3));

(2) Brand name commercial products for authorized resale;

(3) Acquisitions authorized or required by statute to be awarded to a specific source pursuant to FAR 6.302-5(b)(2) or (4), e.g., qualified nonprofit agencies employing people who are blind or severely disabled (see FAR subpart 8.7) or 8(a) program (see FAR subpart 19.8);

(4) International agreements and Foreign Military Sales when the acquisition is to be reimbursed by a foreign country that requires that the product or services be obtained from a particular firm as specified in official written direction such as a Letter of Offer and Acceptance; and

(5) Other contract actions when the Director of Defense Procurement has determined that there is no opportunity for competition.

Note: Even though Part C is not completed for actions with a government agency, the database will automatically include these actions in the category of not available for competition.

(C)Code C—Follow-On to Competed Action. Enter code C when the action pertains to an acquisition placed with a particular contractor to continue or augment a specific competed program, if such placement was necessitated by prior acquisition decisions.

(D) Code D—Not Competed. Enter code D when codes A, B, and C do not apply.

(iv) LINE C4, SEA TRANSPORTATION. Enter one of the following codes when Line B1B is coded A, Line B5B is coded N, and Line B13A is coded other than 9. Otherwise, leave Line C4 blank.

(A) Code Y—Yes—Positive Response to DFARS 252.247-7022 or 252.212-7000(c)(2). Enter code Y when the contractor's response to the provision at 252.247-7022, Representation of Extent of Transportation by Sea, or 252.212-7000(c)(2), Offeror Representations and Certifications—Commercial Items, indicates that the contractor anticipates that some of the supplies being provided may be transported by sea.

(B) Code N—No—Negative Response to DFARS 252.247-7022 or 252.212-7000(c)(2). Enter code N when the contractor's response to the provision at 252.247-7022 or 252.212-7000(c)(2) indicates that the contractor anticipates that none of the supplies being provided will be transported by sea.

(C) Code U—Unknown—No Response or Provision Not Included in Solicitation. Enter code U when the contractor did not complete the representation at 252.247-7022 or 252.212-7000(c)(2) or the solicitation did not include either provision.

(v) LINE C5, TYPE OF CONTRACT.

(A) If the action is a letter contract, including modifications and amendments to letter contracts, enter the code that describes the anticipated type of contract the letter contract will become when it is definitized.

(B) If there is more than one type of contract involved in the contracting action, enter the code that matches the type with the most dollars. If the type with the least dollars exceeds $500,000, fill out separate DD Forms 350 (with different report numbers) for each type.

(C) Enter one of the following codes:

(1) Code A—Fixed-Price Redetermination.

(2) Code J—Firm-Fixed-Price.

(3) Code K—Fixed-Price Economic Price Adjustment.

(4) Code L—Fixed-Price Incentive.

(5) Code M—Fixed-Price-Award-Fee.

(6) Code R—Cost-Plus-Award-Fee.

(7) Code S—Cost Contract.

(8) Code T—Cost-Sharing.

(9) Code U—Cost-Plus-Fixed-Fee.

(10) Code V—Cost-Plus-Incentive-Fee.

(11) Code Y—Time-and-Materials.

(12) Code Z—Labor-Hour.

(vi) LINE C6, NUMBER OF OFFERORS SOLICITED.

(A) Leave Line C6 blank if—

(1) The original contract resulted from a solicitation issued before April 1, 1985 (i.e., before the effective date of the Competition in Contracting Act);

(2) Line B1B is coded B or C and Line B13A is coded 5; or

(3) Line B13A is coded 6.

(B) Otherwise, enter—

(1) Code 1—One. Enter code 1 if only one offeror was solicited; or

(2) Code 2—More than One. Enter code 2 if more than one offeror was solicited.

(vii) LINE C7, NUMBER OF OFFERS RECEIVED.

(A) Leave Line C7 blank if'

(1) The original contract resulted from a solicitation issued before April 1, 1985 (i.e., before the effective date of the Competition in Contracting Act); or

(2) Line B13A is coded 6, Order or Call under Federal Schedule.

(B) Otherwise, enter the specific number of offers received (001-999).

(viii) LINE C8, SOLICITATION PROCEDURES.

(A) Leave Line C8 blank if—

(1) The original contract resulted from a solicitation issued before April 1, 1985 (i.e., before the effective date of the Competition in Contracting Act);

(2) The action is pursuant to simplified acquisition procedures (Line B13A is coded 9); or

(3) The action is an order or call under a Federal schedule (Line B13A is coded 6).

(B) Otherwise, enter one of the following codes:

(1) Code A—Full and Open Competition—Sealed Bid. Enter code A if the action resulted from an award pursuant to FAR 6.102(a).

(2) Code B—Full and Open Competition—Competitive Proposal. Enter code B if the action resulted from an award pursuant to FAR 6.102(b).

(3) Code C—Full and Open Competition—Combination. Enter code C if the action resulted from an award using a combination of competitive procedures (e.g., two-step sealed bidding) pursuant to FAR 6.102(c).

(4) Code D—Architect—Engineer. Enter code D if the action resulted from selection of sources for architect-engineer contracts pursuant to FAR 6.102(d)(1).

(5) Code E—Basic Research. Enter code E if the action resulted from competitive selection of basic research proposals pursuant to FAR 6.102(d)(2).

(6) Code F—Multiple Award Schedule. Enter code F if the action is an award of a multiple award schedule pursuant to FAR 6.102(d)(3) or an order against such a schedule.

(7) Code G—Alternative Sources. Enter code G if the action resulted from use of competitive procedures but excluded a particular source pursuant to FAR 6.202(a).

(8) Code K—Set-Aside. Enter code K if the action resulted from any—

(i) Set-aside for small business concerns (see FAR Subpart 19.5), including small business innovation research (SBIR) actions;

(ii) Set-aside for small disadvantaged business concerns;

(iii) Set-aside for HUBZone small business concerns (see FAR 19.1305);

(iv) Set-aside for very small business concerns (see FAR 19.904);

(v) Set-aside (including portions of broad agency announcements) for historically black colleges and universities or minority institutions (see 226.7003 and 235.016);

(vi) Set-aside for emerging small business concerns (see FAR 19.1006(c)); or

(vii) Competition among Section 8(a) firms under FAR 19.805 (report noncompetitive 8(a) awards as code N).

(9) Code N—Other than Full and Open Competition. Enter code N if the action resulted from use of other than full and open competition pursuant to FAR subpart 6.3. This includes awards to qualified nonprofit agencies employing people who are blind or severely disabled (see FAR subpart 8.7) or noncompetitive awards to the Small Business Administration under Section 8(a) of the Small Business Act (see FAR 6.302-5(b)).

(ix) LINE C9, AUTHORITY FOR OTHER THAN FULL AND OPEN COMPETITION.

(A) Leave Line C9 blank if the original contract resulted from a solicitation issued before April 1, 1985 (i.e., before the effective date of the Competition in Contracting Act).

(B) Enter one of the following codes if Line C8 is coded N. Otherwise, leave Line C9 blank.

(1) Code 1A—Unique Source. Enter code 1A if the action was justified pursuant to FAR 6.302-1(b)(1).

(2) Code 1B—Follow-On Contract. Enter code 1B if the action was justified pursuant to FAR 6.302-1(a)(2)(ii) or (iii).

(3) Code 1C—Unsolicited Research Proposal. Enter code 1C if the action was justified pursuant to FAR 6.302-1(a)(2)(i).

(4) Code 1D “ Patent or Data Rights. Enter code 1D if the action was justified pursuant to FAR 6.302-1(b)(2).

(5) Code 1E—Utilities. Enter code 1E if the action was justified pursuant to FAR 6.302-1(b)(3).

(6) Code 1F—Standardization. Enter code 1F if the action was justified pursuant to FAR 6.302-1(b)(4).

(7) Code 1G—Only One Source—Other. Enter code 1G if the action was justified pursuant to FAR 6.302-1 in a situation other than the examples cited in codes 1A through 1F.

(8) Code 2A—Urgency. Enter code 2A if the action was justified pursuant to FAR 6.302-2.

(9) Code 3A—Particular Sources. Enter code 3A if the action was justified pursuant to FAR 6.302-3(a)(2).

(10) Code 4A—International Agreement. Enter code 4A if the action was justified pursuant to FAR 6.302-4.

(11) Code 5A—Authorized by Statute. Enter code 5A if the action was justified pursuant to FAR 6.302-5(a)(2)(i).

(12) Code 5B—Authorized Resale. Enter code 5B if the action was justified pursuant to FAR 6.302-5(a)(2)(ii).

(13) Code 6A—National Security. Enter code 6A if the action was justified pursuant to FAR 6.302-6.

(14) Code 7A—Public Interest. Enter code 7A if the action was taken pursuant to FAR 6.302-7.

(x) LINE C10, SUBJECT TO LABOR STANDARDS STATUTES. Enter one of the following codes. When Line B13A is coded 6, leave Line C10 blank.

(A) Code A—Walsh-Healey Act. Enter code A when the contracting action is subject to the provisions of FAR subpart 22.6.

(B) Code C—Service Contract Act. Enter code C when the contracting action is subject to the provisions of the Service Contract Act (see FAR part 37).

(C) Code D—Davis-Bacon Act. Enter code D when the contracting action is subject to the Davis-Bacon Act (see FAR 22.403-1).

(D) Code Z—Not Applicable. Enter code Z when codes A, C, and D do not apply.

(xi) LINE C11, COST OR PRICING DATA. Enter one of the following codes when Line B1B is coded A. Otherwise, leave Line C11 blank.

(A) Code Y—Yes—Obtained. Enter code Y when cost or pricing data were obtained (see FAR 15.403-4) and certified in accordance with FAR 15.406-2.

(B) Code N—No—Not Obtained. Enter code N when neither code Y nor code W applies.

(C) Code W—Not Obtained—Waived. Enter code W when cost or pricing data were not obtained because the head of the contracting activity waived the requirement (see FAR 15.403-1(c)(4)).

(xii) LINE C12, CONTRACT FINANCING. Enter one of the following codes identifying whether or not progress payments, advance payments, or other financing methods were used.

(A) Code A—FAR 52.232-16. Enter code A if the contract contains the clause at FAR 52.232-16, Progress Payments.

(B) Code C—Percentage of Completion Progress Payments. Enter code C if the contract provides for progress payments based on percentage or stage of completion, which is only permitted on contracts for construction, for shipbuilding, or for ship conversion, alteration, or repair (see 232.102(e)(2)).

(C) Code D—Unusual Progress Payments or Advance Payments. Enter code D if the contract provides unusual progress payments or advance payments (see FAR subpart 32.4 and 32.501-2).

(D) Code E—Commercial Financing. Enter code E if the contract provides for commercial financing payments (see FAR subpart 32.2).

(E) Code F—Performance-Based Financing. Enter code F if the contract provides for performance-based financing payments (see FAR subpart 32.10).

(F) Code Z—Not Applicable. Enter code Z when codes A through F do not apply.

(xiii) LINE C13, FOREIGN TRADE DATA.

(A) The term “United States (U.S.),” as used on Line C13, excludes the Trust Territory of Palau (see 204.670-1 for definition of United States and outlying areas).

(B) LINE C13A, PLACE OF MANUFACTURE. Complete Line C13A only if the contracting action is for a foreign end product or a service provided by a foreign concern. Otherwise, leave Line C13A blank.

(1) Code A—U.S. Enter code A if the contracting action is for—

(i) A foreign end product that is manufactured in the United States but still determined to be foreign because 50 percent or more of the cost of its components is not mined, produced, or manufactured inside the United States or inside qualifying countries; or

(ii) Services performed in the United States by a foreign concern.

(2) Code B—Foreign. Enter code B if the contracting action is for—

(i) Any other foreign end product; or

(ii) Services performed outside the United States by a foreign concern.

(C) LINE C13B, COUNTRY OF ORIGIN CODE.

(1) Complete Line C13B only if Line C13A is coded A or B. Otherwise, leave Line C13B blank.

(2) Enter the code from FIPS PUB 10, Countries, Dependencies, Areas of Special Sovereignty, and Their Principal Administrative Divisions, that identifies the country where the foreign product is coming from or where the foreign company providing the services is located. If more than one foreign country is involved, enter the code of the foreign country with the largest dollar value of work under the contract.

(xiv) LINE C14, COMMERCIAL ITEMS. Enter one of the following codes:

(A) Code Y—Yes—FAR 52.212-4 Included. Enter code Y if the contract contains the clause at FAR 52.212-4, Contract Terms and Conditions—Commercial Items.

(B) Code N—No—FAR 52.212-4 Not Included. Enter code N if code Y does not apply.

(d) Part D of the DD Form 350.

(1) Do NOT complete Part D if the contracting action is—

(i) With a government agency, i.e., Line B5B is coded Y; or

(ii) An order or call under a Federal schedule.

(2) Use the codes on Lines B13A and B13D to determine whether the codes in Part D will describe the current contracting action or the original contract.

(i) Code Part D to describe the current contracting action when—

(A) Line B13A is coded 1, 3, 4, or 9 and Line B13D is coded A or is blank; or

(B) Line B5B is coded N, Line B13A is coded 8, and Line B13D is coded A or is blank.

(ii) Otherwise, code Part D to describe the original contract. If there are no codes for the original contract because a DD Form 350 was not required at the time, the original action is no longer available, the definition of the original code has changed, or a data element has been added to the system after the original contract report, use codes that best describe the original contracting action.

(3) Determine the status of the concern (e.g., size and ownership) in accordance with FAR part 19 and DFARS part 219.

(4) Complete Part D as follows:

(i) LINE D1, TYPE OF CONTRACTOR.

(A) LINE D1A, TYPE OF ENTITY. Enter one of the following codes:

(1) Code A—Small Disadvantaged Business (SDB) Performing in U.S. Enter code A if the contractor is a small disadvantaged business concern as defined in 219.001 and the place of performance is within the United States and outlying areas.

(2) Code B—Other Small Business (SB) Performing in U.S. Enter code B if the contractor is a small business concern as defined in FAR 19.001, other than a small disadvantaged business concern, and the place of performance is within the United States and outlying areas.

(3) Code C—Large Business Performing in U.S. Enter code C if the contractor is a domestic large business concern and the place of performance is within the United States and outlying areas.

(4) Code D—JWOD Participating Nonprofit Agency. Enter code D if the contractor is a qualified nonprofit agency employing people who are blind or severely disabled (see FAR 8.701) and the place of performance is within the United States and outlying areas.

(5) Code F—Hospital. Enter code F if the contractor is a hospital and the place of performance is within the United States and outlying areas.

(6) Code L—Foreign Concern or Entity. Enter code L if the contractor is a foreign concern, the Canadian Commercial Corporation, or a non-U.S.-chartered nonprofit institution.

(7) Code M—Domestic Firm Performing Outside U.S. Enter code M if the contractor is a domestic concern or a domestic nonprofit institution and the place of performance is outside the United States and outlying areas.

(8) Code T—Historically Black College or University (HBCU). Enter code T if the contractor is an HBCU as defined at 252.226-7000 and the place of performance is within the United States and outlying areas.

(9) Code U—Minority Institution (MI). Enter code U if the contractor is an MI as defined at 252.226-7000 and the place of performance is within the United States and outlying areas.

(10) Code V—Other Educational. Enter code V if the contractor is an educational institution that does not qualify as an HBCU or MI and the place of performance is within the United States and outlying areas.

(11) Code Z—Other Nonprofit. Enter code Z if the contractor is a nonprofit organization (as defined in FAR 31.701) that does not meet any of the criteria in codes D, F, T, U, or V and the place of performance is within the United States and outlying areas.

(B) LINE D1B, WOMEN-OWNED BUSINESS. Enter one of the following codes:

(1) Code Y—Yes. Enter code Y if the contractor's response to FAR 52.204-5, 52.212-3(c), or 52.219-1(b) indicates that it is a women-owned business.

(2) Code N—No. Enter code N if the contractor's response to FAR 52.204-5, 52.212-3(c), or 52.219-1(b) indicates that it is not a women-owned business.

(3) Code U—Uncertified. Enter code U if the information is not available because the contractor did not complete the representation in FAR 52.204-5, 52.212-3(c), or 52.219-1(b).

(C) LINE D1C, HUBZONE REPRESENTATION. Enter one of the following codes when Line D1A is coded A or B. Otherwise, leave Line D1C blank.

(1) Code Y—Yes. Enter code Y if the contractor represented that it is a HUBZone small business concern (see FAR 19.1303).

(2) Code N—No. Enter code N if code Y does not apply.

(D) LINE D1D, ETHNIC GROUP.

(1) Complete Line D1D if the action is with a small disadvantaged business. Otherwise, leave Line D1D blank.

(2) Enter the code from the following list that corresponds to the ethnic group that the contractor marked in the solicitation provision at FAR 52.219-1, Small Business Program Representations, or FAR 52.212-3(c).

(i) Code A—Asian-Indian American.

(ii) Code B—Asian-Pacific American.

(iii) Code C—Black American.

(iv) Code D—Hispanic American.

(v) Code E—Native American.

(vi) Code F—Other SDB Certified or Determined by SBA.

(vii) Code Z—No Representation.

(E) LINE D1E, VETERAN-OWNED SMALL BUSINESS. Enter one of the following codes if the contractor is a veteran-owned small business. Otherwise, leave Line D1E blank.

(1) Code A—Service-Disabled Veteran. Enter code A if the contractor represented that it is a service-disabled veteran-owned small business.

(2) Code B—Other Veteran. Enter code B if the contractor represented that it is a veteran-owned small business, other than a service-disabled veteran-owned small business.

(ii) LINE D2, REASON NOT AWARDED TO SDB. Enter one of the following codes when Line D1A is coded B or C. Otherwise, leave Line D2 blank.

(A) Code A—No Known SDB Source.

(B) Code B—SDB Not Solicited. Enter code B when there was a known SDB source, but it was not solicited.

(C) Code C—SDB Solicited and No Offer Received. Enter code C when an SDB was solicited but it did not submit an offer, or its offer was not sufficient to cover the total quantity requirement so it received a separate award for the quantity offered.

(D) Code D—SDB Solicited and Offer Was Not Low. Enter code D when an SDB offer was not the low or most advantageous offer or an SDB was not willing to accept award of a partial small business set-aside portion of an action at the price offered by the Government.

(E) Code Z—Other Reason. Enter code Z when an SDB did not receive the award for any other reason or when Line B1B is coded B or C and Line B13A is coded 5.

(iii) LINE D3, REASON NOT AWARDED TO SB. Enter one of the following codes when Line D1A is coded C. Otherwise, leave Line D3 blank. (The term “small business” includes all categories of small businesses.)

(A) Code A—No Known SB Source.

(B) Code B—SB Not Solicited. Enter code B when there was a known small business source, but it was not solicited.

(C) Code C—SB Solicited and No Offer Received. Enter code C when a small business concern was solicited but it did not submit an offer, or its offer was not sufficient to cover the total quantity requirement so it received a separate award for the quantity offered.

(D) Code D—SB Solicited and Offer Was Not Low. Enter code D when a small business offer was not the low or most advantageous offer or a small business concern was not willing to accept award of a set-aside portion of an action at the price offered by the Government.

(E) Code Z—Other Reason. Enter code Z when a small business did not receive the award for any other reason or when Line B1B is coded B or C and Line B13A is coded 5.

(iv) LINE D4, SET-ASIDE OR PREFERENCE PROGRAM.

(A) LINE D4A, TYPE OF SET-ASIDE. Enter one of the following codes:

(1) Code A—None. Enter code A if there was no set-aside (i.e., codes B through L do not apply).

(2) Code B—Total SB Set-Aside. Enter code B if the action was a total set-aside for small business (see FAR 19.502-2), including actions reserved exclusively for small business concerns pursuant to FAR 13.003(b)(1), or if the action resulted from the Small Business Innovation Research Program.

(3) Code C—Partial SB Set-Aside. Enter code C if the action was a partial set-aside for small business (see FAR 19.502-3).

(4) Code D—Section 8(a) Set-Aside or Sole Source. Enter code D if the contract was awarded to—

(i) The Small Business Administration under Section 8(a) of the Small Business Act (see FAR subpart 19.8); or

(ii) An 8(a) contractor under the direct award procedures at 219.811.

(5) Code E—Total SDB Set-Aside. Enter code E if the action was a total set-aside for small disadvantaged businesses.

(6) Code F—HBCU or MI—Total Set-Aside. Enter code F if the action was a total set-aside for HBCU or MI (see 226.7003).

(7) Code G—HBCU or MI—Partial Set-Aside. Enter code G if the action was a partial set-aside for HBCU or MI under a broad agency announcement (see 235.016).

(8) Code H—Very Small Business Set-Aside. Enter code H if the action was a set-aside for very small businesses (see FAR subpart 19.9).

(9) Code J—Emerging Small Business Set-Aside. Enter code J if the action was an emerging small business set-aside within a designated industry group under the Small Business Competitiveness Demonstration Program (see FAR subpart 19.10).

(10) Code K—HUBZone Set-Aside or Sole Source. Enter code K if the action was—

(i) A set-aside for HUBZone small business concerns (see FAR 19.1305); or

(ii) A sole source award to a HUBZone small business concern (see FAR 19.1306).

(11) Code L—Combination HUBZone and 8(a). Enter code L if action was a combination HUBZone set-aside and 8(a) award.

(B) LINE D4B, TYPE OF PREFERENCE. Enter one of the following codes, even if Line D4A is coded E:

(1) Code A—None. Enter code A if no preference was given.

(2) Code B—SDB Price Evaluation Adjustment—Unrestricted. Enter code B if the action was unrestricted but an SDB received an award as a result of a price evaluation adjustment (see FAR subpart 19.11).

(3) Code C—SDB Preferential Consideration—Partial SB Set-Aside. Enter code C if the action was a partial set-aside for small business and preferential consideration resulted in an award to an SDB.

(4) Code D—HUBZone Price Evaluation Preference. Enter code D if the contractor received the award as a result of a HUBZone price evaluation preference (see FAR 19.1307).

(5) Code E—HUBZone Price Evaluation Preference and SDB Price Evaluation Adjustment. Enter code E if the contractor received the award as a result of both a HUBZone price evaluation preference and an SDB price evaluation adjustment (see FAR 19.1307).

(C) LINE D4C, PREMIUM PERCENT.

(1) Complete Line D4C if Line B1B is coded A, and—

(i) Line D4A is coded E, F, or G; or

(ii) Line D4B is coded B, C, D or E.

(2) Otherwise, leave Line D4C blank.

(3) Calculate the premium percentage per 219.202-5 and enter it as a three-digit number rounded to the nearest tenth, e.g., enter 7.55% as 076. If no premium was paid, enter three zeros (000).

(v) LINES D5-D6. Reserved.

(vi) LINE D7, SMALL BUSINESS INNOVATION RESEARCH (SBIR) PROGRAM. Enter one of the following codes. When Line B1B is coded B or C and Line B13A is coded 5, leave Line D7 blank.

(A) Code A—Not a SBIR Program Phase I, II, or III. Enter code A if the action is not in support of a Phase I, II, or III SBIR Program.

(B) Code B—SBIR Program Phase I Action. Enter code B if the action is related to a Phase I contract in support of the SBIR Program.

(C) Code C—SBIR Program Phase II Action. Enter code C if the action is related to a Phase II contract in support of the SBIR Program.

(D) Code D—SBIR Program Phase III Action. Enter code D if the action is related to a Phase III contract in support of the SBIR Program.

(vii) LINE D8, SUBCONTRACTING PLAN—SB, SDB, HBCU, OR MI. Enter one of the following codes:

(A) Code A—Plan Not Included—No Subcontracting Possibilities. Enter code A if a subcontracting plan was not included in the contract because subcontracting possibilities do not exist (see FAR 19.705-2(c)).

(B) Code B—Plan Not Required. Enter code B if no subcontracting plan was required (e.g., because the action did not meet the dollar thresholds in FAR 19.702(a)).

(C) Code C—Plan Required—Incentive Not Included. Enter code C if the action includes a subcontracting plan, but does not include additional incentives (see FAR 19.708(c)).

(D) Code D—Plan Required—Incentive Included. Enter code D if the action includes a subcontracting plan and also includes additional incentives (see FAR 19.708(c) and 219.708(c)).

(viii) LINE D9, SMALL BUSINESS COMPETITIVENESS DEMONSTRATION PROGRAM. When Line B13A is coded 5 or Line B13D is coded B, C, D, E, F, or G and the original action was awarded before the demonstration program began, enter code N on Line D9. When Line B1B is coded B or C and Line B13A is coded 5, enter code N on Line D9. Otherwise, code Line D9 as follows:

(A) Code Y—Yes. Enter code Y if this is an action with a U.S. business concern, in either the four designated industry groups or the ten targeted industry categories under the Small Business Competitiveness Demonstration Program (see FAR subpart 19.10 and DFARS subpart 219.10), where the principal place of performance is in the United States or outlying areas.

(B) Code N—No. Enter code N if code Y does not apply.

(ix) LINE D10, SIZE OF SMALL BUSINESS.

(A) Complete Line D10 only when Line D9 is coded Y and the contractor is a small business (Line D1A is coded A or B). Otherwise, leave Line D10 blank.

(B) Enter one of the following codes for the size of the business (number of employees or average annual gross revenue) as represented by the contractor in the solicitation provision at FAR 52.219-19, Small Business Concern Representation for the Small Business Competitiveness Demonstration Program:

(1) Code A—50 or fewer employees.

(2) Code B—51-100 employees.

(3) Code C—101-250 employees.

(4) Code D—251-500 employees.

(5) Code E—501-750 employees.

(6) Code F—751-1,000 employees.

(7) Code G—Over 1,000 employees.

(8) Code M—$1,000,000 or less.

(9) Code N—$1,000,001—$2,000,000.

(10) Code P—$2,000,001—$3,500,000.

(11) Code R—$3,500,001—$5,000,000.

(12) Code S—$5,000,001—$10,000,000.

(13) Code T—$10,000,001—$17,000,000.

(14) Code U—Over $17,000,000.

(x) LINE D11, EMERGING SMALL BUSINESS.

(A) Complete this line only if Line D9 is coded Y and the contracting action is in one of the four designated industry groups, not one of the targeted industry categories. Otherwise, leave Line D11 blank.

(B) Enter one of the following codes:

(1) Code Y—Yes. Enter code Y if the contractor represents in the provision at FAR 52.219-19, Small Business Concern Representation for the Small Business Competitiveness Demonstration Program, that it is an emerging small business concern.

(2) Code N—No. Enter code N if code Y does not apply.

(e) Part E of the DD Form 350. Part E gathers data on specialized items that may not become permanent reporting elements.

(1) LINE E1, CONTINGENCY, HUMANITARIAN, OR PEACEKEEPING OPERATION.

(i) Enter code Y on Line E1 if the contracting action exceeds $200,000 and is in support of—

(A) A contingency operation as defined in 10 U.S.C. 101(a)(13); or

(B) A humanitarian or peacekeeping operation as defined in 10 U.S.C. 2302(8).

(ii) Otherwise, leave Line E1 blank.

(2) LINE E2, COST ACCOUNTING STANDARDS CLAUSE. Enter code Y on Line E2 if the contract includes a Cost Accounting Standards clause (see FAR part 30). Otherwise, leave Line E2 blank.

(3) LINE E3, NON-DOD REQUESTING AGENCY CODE (FIPS 95). If making a purchase on behalf of a non-DoD agency, enter the four-position code from FIPS PUB 95 that identifies the non-DoD agency. Otherwise, leave Line E3 blank.

(4) LINE E4, NON-DOD REQUESTING OFFICE CODE. If making a purchase on behalf of a non-DoD agency, enter the non-DoD agency's office code. Otherwise, leave Line E4 blank.

(5) LINES E5-E7. Reserved.

(6) LINE E8, NUMBER OF CONTRACTING ACTIONS. If submitting a consolidated DD Form 350, enter the number of contracting actions included in the consolidated report (see 204.670-6(b)). Otherwise, leave Line E8 blank.

(f) Part F of the DD Form 350. Part F identifies the reporting official.

(1) LINE F1, NAME OF CONTRACTING OFFICER OR REPRESENTATIVE. Enter the name (Last, First, Middle Initial) of the contracting officer or representative.

(2) LINE F2, SIGNATURE. The person identified on Line F1 must sign.

(3) LINE F3, TELEPHONE NUMBER. Enter the telephone number (with area code) for the individual on Line F1. Installations with Defense Switched Network (DSN) must enter the DSN number.

(4) LINE F4, DATE. Enter the date that the DD Form 350 Report is submitted. Enter four digits for the year, two digits for the month, and two digits for the day. Use 01 through 12 for January through December. For example, enter January 2, 2003, as 20030102.

253.204-71 DD Form 1057, Monthly Summary of Contracting Actions.

(a) Scope of subsection. Policy on use of a DD Form 1057 is in 204.670. This subsection contains instructions on completion of the DD Form 1057.

(1) Report actions in the month they are awarded, issued, executed, or placed, except—

(i) When the price of an order or call cannot be determined when it is placed, count the action and its dollars when it is paid.

(ii) Count the following actions when the voucher is paid (count each voucher as one action):

(A) Meals and lodging.

(B) Automatic deliveries, e.g., bread, milk, and ice cream.

(iii) The Navy Facilities Engineering Command will report vouchers it processes on Naval shore establishment contracts for electricity and gas in accordance with departmental procedures.

(2) Enter all dollar amounts in whole dollars only. Do not enter cents. If the net amount is a decrease, enter a minus sign (−) immediately preceding the amount to indicate a credit entry. Do not enter parentheses.

(3) Report actions of $25,000 or less in support of a contingency operation as defined in 10 U.S.C. 101(a)(13), or a humanitarian or peacekeeping operation as defined in 10 U.S.C. 2302(8), in accordance with the instructions in paragraphs (c) through (j) of this subsection. Report actions exceeding $25,000 but not exceeding $200,000 in support of a contingency operation, or a humanitarian or peacekeeping operation, on the monthly DD Form 1057 as follows:

(i) Section B; the applicable lines are 5 through 5e and 8 through 8e.

(ii) Section C; the applicable lines are 1 and 1c, 2 and 2c, and 3 and 3c.

(iii) Sections D, E, and F are not applicable.

(iv) Section G; complete fully.

(b) Definitions. For purposes of this subsection' “All Other Orders” means orders, and modifications of such orders, under basic ordering agreements or indefinite-delivery contracts.

GSA Schedule Orders means only orders or calls, and modifications of such orders or calls, under Federal schedules awarded by GSA.

Other Contracting Actions means all actions that do not meet the definitions, in this paragraph (b), of an order.

Other Federal Schedule Orders means only orders, and modifications of such orders, under Federal schedules awarded by an agency other than GSA, e.g., awarded by VA or OPM.

Simplified Acquisition Procedures means purchase orders, calls under blanket purchase agreements (BPAs) (except BPAs written under Federal schedules), and modifications to those actions.

(c) Section A, General Information.

(1) LINE A1, REPORT FOR MONTH ENDING. Enter the last day of the month in which the report is submitted. Enter four digits for the year, two digits for the month, and two digits for the day. Use 01 through 12 for January through December. For example, enter January 31, 2003, as 20030131.

(2) LINE A2, NAME OF CONTRACTING OFFICE. Enter sufficient detail to establish the identity of the contracting office submitting the report on Lines 2a and b.

(3) LINE A3, CONTRACTING OFFICE CODES.

(i) LINE A3A, REPORTING AGENCY FIPS 95 CODE. Enter the four-position code from Federal Information Processing Standards Publication (FIPS PUB) 95, Codes for the Identification of Federal and Federally Assisted Organizations, that identifies the reporting agency.

(ii) LINE A3B, CONTRACTING OFFICE CODE. Enter the code assigned by the departmental data collection point in 204.670-1(c).

(d) Section B, Contracting Actions.

(1) LINE B1, TARIFF OR REGULATED ACQUISITIONS. Enter the number and dollar value of contracting actions (including modifications that will also be reported on Line B9) with tariff or regulated industries (industries with sole source and service rates that are fixed or adjusted by a Federal, State, or other public regulatory body).

(2) LINE B2, FOREIGN OR INTERAGENCY.

(i) Enter the total number and dollar value of contracting actions (including modifications that will also be reported on Line B9)—

(A) For foreign military sales (FMS) or other arrangement where the foreign government or international organization is paying all or part of the cost of the action.

(B) Placed directly with foreign governments under the terms of an international agreement, e.g., base maintenance performed with the foreign government acting as the contractor (any other actions directly with foreign governments go on Line B5).

(C) With another Federal agency or Government corporation, e.g., Federal Prison Industries (UNICOR).

(ii) Enter the subtotals for the number and dollar value of contracting actions (including modifications that will also be reported on Line B9) for—

(A) Line B2a, FMS or International Agreements. Enter subtotals for paragraphs (d)(2)(i)(A) and (B) of this subsection.

(B) Line B2b, Actions with UNICOR. Enter subtotal for contracting actions with UNICOR.

(C) Line B2c, Actions with Other Government Agencies. Enter subtotal for actions with government agencies other than UNICOR.

(3) LINE B3, SMALL BUSINESS.

(i) Enter the total number and dollar value of contracting actions (including modifications that will also be reported on Line B9) where the—

(A) Contractor is a small business concern; and

(B) Place of performance is in the United States and outlying areas (see 204.670-1).

(ii) Enter the subtotals for the number and dollar value of contracting actions (including modifications that will also be reported on Line B9) for—

(A) Line B3a, Simplified Acquisition Procedures;

(B) Line B3b, GSA Schedule Orders;

(C) Line B3c, Other Federal Schedule Orders;

(D) Line B3d, All Other Orders; and

(E) Line B3e, Other Contracting Actions.

(4) LINE B4, LARGE BUSINESS.

(i) Enter the total number and dollar value of contracting actions (including modifications that will also be reported on Line B9) where the—

(A) Contractor is a large business concern; and

(B) Place of performance is in the United States and outlying areas.

(ii) Enter the subtotals for the number and dollar value of contracting actions (including modifications that will also be reported on Line B9) for—

(A) Line B4a, Simplified Acquisition Procedures;

(B) Line B4b, GSA Schedule Orders;

(C) Line B4c, Other Federal Schedule Orders;

(D) Line B4d, All Other Orders; and

(E) Line B4e, Other Contracting Actions.

(5) LINE B5, DOMESTIC OR FOREIGN ENTITIES PERFORMING OUTSIDE THE UNITED STATES.

(i) Enter the total number and dollar value of contracting actions (including modifications that will also be reported on Line B9) where the place of performance is outside the United States and outlying areas (see 204.670-1(c)). This includes actions placed directly with a foreign government that are not under international agreements (see paragraph (d)(2)(i)(B) of this subsection). It does not matter whether the contractor is domestic or foreign.

(ii) Enter the subtotals for the number and dollar value of contracting actions (including modifications that will also be reported on Line B9) for—

(A) Line B5a, Simplified Acquisition Procedures;

(B) Line B5b, GSA Schedule Orders;

(C) Line B5c, Other Federal Schedule Orders;

(D) Line B5d, All Other Orders; and

(E) Line B5e, Other Contracting Actions.

(6) LINE B6, EDUCATIONAL.

(i) Enter the total number and dollar value of contracting actions with educational institutions (including modifications that will also be reported on Line B9).

(ii) Enter the subtotals for the number and dollar value of contracting actions (including modifications that will also be reported on Line B9) for—

(A) Line B6a, Simplified Acquisition Procedures;

(B) Line B6b, GSA Schedule Orders;

(C) Line B6c, Other Federal Schedule Orders;

(D) Line B6d, All Other Orders; and

(E) Line B6e, Other Contracting Actions.

(7) LINE B7, NONPROFIT AND OTHER.

(i) Enter the total number and dollar value of contracting actions (including modifications that will also be reported on Line B9) with—

(A) Nonprofit organizations as defined in FAR 31.701;

(B) Qualified nonprofit agencies employing people who are blind or severely disabled; and

(C) Any other entities not listed on Lines B1 through B6.

(ii) Enter the subtotals for the number and dollar value of contracting actions (including modifications that will also be reported on Line B9) for—

(A) Line B7a, Simplified Acquisition Procedures;

(B) Line B7b, GSA Schedule Orders;

(C) Line B7c, Other Federal Schedule Orders;

(D) Line B7d, All Other Orders; and

(E) Line B7e, Other Contracting Actions.

(8) LINE B8, TOTAL CONTRACTING ACTIONS.

(i) Add the amounts on Lines B1 through B7 and enter the totals on Line B8.

(ii) If directed by data collection point procedures, also enter the subtotals for the number and dollar value of contracting actions for—

(A) Line B8a, Simplified Acquisition Procedures, sum of Lines 3a + 4a + 5a + 6a + 7a.

(B) Line B8b, GSA Schedule Orders, sum of Lines 3b + 4b + 5b + 6b + 7b.

(C) Line B8c, Other Federal Schedule Orders, sum of Lines 3c + 4c + 5c + 6c + 7c.

(D) Line B8d, All Other Orders, sum of Lines 3d + 4d + 5d + 6d + 7d.

(E) Line B8e, Other Contracting Actions, sum of Lines 3e + 4e + 5e + 6e + 7e.

(9) LINE B9, TOTAL MODIFICATIONS EXCLUDING SIMPLIFIED ACQUISITION PROCEDURES. Enter the total number and dollar value of modification actions, excluding simplified acquisition procedures.

(e) Section C, Extent Competed.

(1) LINE C1, COMPETED.

(i) Enter the total number and dollar value of contracting actions that were competed.

(A) Include on Line C1—

(1) Actions not subject to Competition in Contracting Act (CICA) (see FAR 6.001) when at least two quotations or offers were received;

(2) Actions when competitive procedures were used to fulfill the requirement for full and open competition (see FAR Subpart 6.1);

(3) Actions when full and open competition was provided for after exclusion of sources, to establish or maintain alternative sources or to set aside an acquisition exceeding the micro-purchase threshold for small business (see FAR subpart 6.2);

(4) Actions when statutory authorities for other than full and open competition (see FAR subpart 6.3) were used and more than one offer was received, except as provided in paragraphs (e)(1)(i)(B)(2) and (3) of this subsection;

(5) Actions resulting from a contract awarded competitively before CICA (including two-step formal advertising);

(6) Orders, calls, and modifications under a Federal schedule; and

(7) Section 8(a) awards competed under FAR 6.204.

(B) Do not include—

(1) Actions that meet the criteria for Section C, Line C2;

(2) Actions awarded under the authority of FAR 6.302-5(b)(2) or (4), authorized or required by statute (report these in Section C, Line C2); or

(3) Actions reported in Section B, Lines B1 and B2, including actions with the Federal Prison Industries (UNICOR). These actions are treated as not available for competition in published competition reports.

(ii) Enter the subtotals for the number and dollar value of contracting actions for—

(A) Line C1a, Small Business Concerns;

(B) Line C1b, Large Business Concerns;

(C) Line C1c, Domestic or Foreign Entities Performing Outside the United States;

(D) Line C1d, Educational; and

(E) Line C1e, Nonprofit and Other.

(2) LINE C2, NOT AVAILABLE FOR COMPETITION.

(i) Enter the total number and dollar value of contracting actions that were not available for competition.

(A) Include on Line C2—

(1) Actions for brand name commercial products for authorized resale;

(2) Actions authorized or required by statute to be awarded to a specific source or through another agency in accordance with FAR 6.302-5(b)(2) or (4); e.g., actions with qualified nonprofit agencies employing people who are blind or severely disabled, and noncompetitive 8(a) actions;

(3) Actions (including modifications) at or below the micro-purchase threshold at FAR 2.101; and

(4) Other contract actions when the Director of Defense Procurement has determined that there is no opportunity for competition.

(B) Do not include any actions reported in Section B, Line B1 or B2 (e.g., actions with regulated monopolies, actions under foreign military sales or international agreements, and actions with another Federal agency or Government corporation). These actions are treated as not available for competition in published competition reports.

(ii) Enter the subtotals for the number and dollar value of contracting actions for—

(A) Line C2a, Small Business Concerns;

(B) Line C2b, Large Business Concerns;

(C) Line C2c, Domestic or Foreign Entities Performing Outside the United States;

(D) Line C2d, Educational; and

(E) Line C2e, Nonprofit and Other.

(3) LINE C3, NOT COMPETED.

(i) Enter the total number and dollar value of contracting actions that were not competed, i.e., any actions not reported on Line B1 or B2. Do not include actions reported in Section B, Line B1 or B2. These actions are treated as not available for competition in published competition reports.

(ii) Enter the subtotals for the number and dollar value of contracting actions for—

(A) Line C3a, Small Business Concerns;

(B) Line C3b, Large Business Concerns;

(C) Line C3c, Domestic or Foreign Entities Performing Outside the United States;

(D) Line C3d, Educational; and

(E) Line C3e, Nonprofit and Other.

(f) Section D, RDT&E Actions. Do not include actions for supplies or services in support of research, development, test, and evaluation (RDT&E) work that do not require the contractor to perform RDT&E.

(1) LINE D1, SMALL BUSINESS. Enter the total number and dollar values of RDT&E actions with small business concerns.

(2) LINE D2, LARGE BUSINESS. Enter the total number and dollar value of RDT&E actions with large business concerns.

(3) LINE D3, DOMESTIC OR FOREIGN ENTITIES PERFORMING OUTSIDE THE UNITED STATES. Enter the total number and dollar value of RDT&E actions where the principal place of performance is outside the United States and outlying areas (see 204.670-1).

(4) LINE D4, HISTORICALLY BLACK COLLEGES AND UNIVERSITIES (HBCU). Enter the total number and dollar value of RDT&E actions with HBCUs.

(5) LINE D5, MINORITY INSTITUTIONS (MI). Enter the total number and dollar value of RDT&E actions with MIs.

(6) LINE D6, OTHER EDUCATIONAL. Enter the total number and dollar value of RDT&E actions with educational institutions other than HBCUs or MIs.

(7) LINE D7, OTHER ENTITIES. Enter the total number and dollar value of RDT&E actions that were not reported on Lines D1 through D6.

(g) Section E, Selected Socioeconomic Statistics.

(1) LINE E1, SMALL BUSINESS (SB) SET-ASIDE.

(i) Enter the total number and dollar value of contracting actions that were small business set-aside actions, including awards to SDBs reported on Lines E2c and E2d. Do not include orders under Federal schedules that are reported on Line E3 or E5.

(ii) If the action is an emerging small business set-aside (see FAR 19.1006(c)), use the most appropriate line.

(iii) Enter the subtotals for the number and dollar value of contracting actions for—

(A) Line E1a, SB Set-Aside Using Simplified Acquisition Procedures. Enter actions pursuant to FAR 13.003(b)(1).

(B) Line E1b, SB Set-Aside. Enter actions pursuant to FAR 19.502.

(2) LINE E2, SMALL DISADVANTAGED BUSINESS (SDB) ACTIONS.

(i) Enter the total number and dollar value of contracting actions that were SDB actions. Do not include orders under Federal schedules that are reported on Line E3 or E5.

(ii) Enter the subtotals for the number and dollar value of contracting actions for—

(A) Line E2a, Through SBA—Section 8(a). Enter actions with the Small Business Administration pursuant to Section 8(a) of the Small Business Act (see FAR subpart 19.8) or under the 8(a) direct award procedures at 219.811.

(B) Line E2b, SDB Set-Aside, SDB Preference, or SDB Evaluation Adjustment. Enter actions resulting from—

(1) A set-aside for SDB concerns;

(2) Application of an SDB price preference or evaluation adjustment (see FAR subpart 19.11); or

(3) SDB preferential consideration.

(C) Line E2c, SB Set-Aside Using Simplified Acquisition Procedures. Enter actions pursuant to FAR 13.003(b)(1) when award is to an SDB, but a preference or evaluation adjustment was not applied.

(D) Line E2d, SB Set-Aside. Enter actions under FAR 19.502 when award is to an SDB, but a preference or evaluation adjustment was not applied nor was preferential consideration given.

(E) Line E2e, Other. Enter awards to SDB concerns that are not reported on Lines E2a through E2d.

(3) LINE E3, SDB FEDERAL SCHEDULE ORDERS. Enter the total number and dollar value of contracting actions that were orders under Federal schedules with SDBs.

(4) LINE E4, WOMEN-OWNED SMALL BUSINESS. Enter the total number and dollar value of contracting actions with women-owned small businesses (see FAR 19.001). Do not include orders under Federal schedules that are reported on Line E5.

(5) LINE E5, WOMEN-OWNED SMALL BUSINESS FEDERAL SCHEDULE ORDERS. Enter the total number and dollar value of contracting actions that were orders under Federal schedules with women-owned small businesses.

(6) LINE E6, HBCU. Enter the total number and dollar value of contracting actions with HBCUs pursuant to subpart 226.70.

(7) LINE E7, MI. Enter the total number and dollar value of contracting actions with MIs pursuant to subpart 226.70.

(8) LINE E8, JWOD PARTICIPATING NONPROFIT AGENCIES. Enter the total number and dollar value of contracting actions with qualified nonprofit agencies employing people who are blind or severely disabled for supplies or services from the Procurement List pursuant to FAR subpart 8.7.

(9) LINE E9, EXEMPT FROM SMALL BUSINESS ACT REQUIREMENTS. Enter the total number and dollar value of contracting actions exempt from the set-aside requirements of the Small Business Act (see FAR 19.502-1).

(10) LINE E10, HUBZONE.

(i) Enter the total number and dollar value of contracting actions that were awarded to HUBZone small business concerns.

(ii) Enter the subtotals for the number and dollar value of contracting actions for—

(A) Line E10a, HUBZone Set-Aside;

(B) Line E10b, HUBZone Price Evaluation Preference;

(C) Line E10c, HUBZone Sole Source; and

(D) Line E10d, HUBZone Concern—Other. Use this category when the award is to a HUBZone small business concern and Lines E10a, E10b, and E10c do not apply.

(11) LINE E11, SERVICE-RELATED DISABLED VETERAN-OWNED SMALL BUSINESS. Enter the total number and dollar value of contracting actions that were awarded to service-disabled veteran-owned small business concerns.

(12) LINE E12, OTHER VETERAN-OWNED SMALL BUSINESS. Enter the total number and dollar value of contracting actions that were awarded to veteran-owned small business concerns, other than those reported on Line E11.

(h) Section F, Simplified Acquisition Procedures—Ranges. Enter in each of the dollar ranges the total number and dollar value of contracting actions that used simplified acquisition procedures (FAR part 13). The total of Section F is normally the sum of Lines B3a, B4a, B5a, B6a, and B7a.

(i) Section G, Contingency Actions. LINE G1, TOTAL ACTIONS.

(1) Enter the total number and dollar value of contracting actions that were awarded in support of a contingency operation as defined in 10 U.S.C. 101(a)(13) or a humanitarian or peacekeeping operation as defined in 10 U.S.C. 2302(8). The numbers entered here are a breakout of the numbers already entered in Sections B and C.

(2) Enter the subtotals based on the instructions for completion of Section C for the number and dollar value of contracting actions for—

(i) Line G1a, Competed;

(ii) Line G1b, Not Available for Competition; and

(iii) Line G1c, Not Competed.

(j) Section H, Remarks and Authentication.

(1) LINE H1, REMARKS. Enter any remarks applicable to this report.

(2) LINE H2, CONTRACTING OFFICER.

(i) Line H2a, Name. Enter the name (last, first, middle initial) of the contracting officer or representative.

(ii) Line H2b, Signature. The person identified on Line H2a must sign.

(iii) Line H2c, Telephone Number. Enter the telephone number (with area code) of the person identified on Line H2a. Installations with Defense Switched Network (DSN) must enter their DSN number.

(3) LINE H3, DATE REPORT SUBMITTED. Enter the date that the DD Form 1057 is submitted. Enter four digits for the year, two digits for the month, and two digits for the day. Use 01 through 12 for January through December. For example, enter January 2, 2003, as 20030102.

8. The note at the end of Part 253 is amended by revising the entry “253.303-1057 Monthly Contracting Summary of Actions $25,000 or Less.” to read “253.303-1057 Monthly Summary of Contracting Actions.”.

[FR Doc. 00-15819 Filed 6-26-00; 8:45 am]

BILLING CODE 5000-04-P